SMALL BUSINESS ADMINISTRATION

National Small Business Development Center Advisory Board; Public Meeting

The U.S. Small Business Administration National Small Business Development Center Advisory Board will be hosting a public meeting via conference call to discuss such matters that may be presented by members, and the staff of the U.S. Small Business Administration or interested others. The conference call will take place on Tuesday, May 15, 2007 at 1 p.m. Eastern Standard Time.

The purpose of the meeting is to discuss the initial White Paper draft regarding management of the SBDC program, and arrangements for the Board site visit in June to visit the Ohio SBDC network in Columbus.

Anyone wishing to make an oral presentation to the Board must contact Erika Fischer, Senior Program Analyst, U.S. Small Business Administration, Office of Small Business Development Centers, 409 3rd Street, SW., Washington, DC 20416, telephone (202) 205-7045 or fax (202) 481-0681.

Matthew Teague,
Committee Management Officer.

[FR Doc. E7-8021 Filed 4-25-07; 8:45 am]

BILLING CODE 8025-01-P